DEPARTMENT OF ENERGY

Federal Energy Regulatory Commission

Combined Notice of Filings #1

Take notice that the Commission received the following exempt wholesale generator filings:

Docket Numbers: EG24-149-000.

Applicants: SBESS TX 5, LLC.

Description: SBESS TX 5, LLC submits Notice of Self-Certification of Exempt Wholesale Generator Status.

Filed Date: 3/27/24.

Accession Number: 20240327-5053.

Comment Date: 5 p.m. ET 4/17/24.

Docket Numbers: EG24-150-000.

Applicants: SBESS TX 6, LLC.

Description: SBESS TX 6, LLC submits Notice of Self-Certification of Exempt Wholesale Generator Status.

Filed Date: 3/27/24.

Accession Number: 20240327-5054.

Comment Date: 5 p.m. ET 4/17/24.

Docket Numbers: EG24-151-000.

Applicants: SBESS TX 7, LLC.

Description: SBESS TX 7, LLC submits Notice of Self-Certification of Exempt Wholesale Generator Status.

Filed Date: 3/27/24.

Accession Number: 20240327-5056.

Comment Date: 5 p.m. ET 4/17/24.

Docket Numbers: EG24-152-000.

Applicants: Cottonwood Bayou Solar, LLC.

Description: Cottonwood Bayou Solar, LLC submits Notice of Self-Certification of Exempt Wholesale Generator Status.

Filed Date: 3/27/24.

Accession Number: 20240327-5058.

Comment Date: 5 p.m. ET 4/17/24.

Take notice that the Commission received the following electric rate filings:

Docket Numbers: ER22-2022-002.

Applicants: Pacific Gas and Electric Company.

Description: Compliance filing: Compliance Filing Appendix G (Wireless Carriers) ER22-2022 (WDT SA 275) to be effective 7/12/2022.

Filed Date: 3/27/24.

Accession Number: 20240327-5080.

Comment Date: 5 p.m. ET 4/17/24.

Docket Numbers: ER23-1928-001.

Applicants: Appaloosa Solar I, LLC.

Description: Notice of Non-Material Change in Status of Appaloosa Solar I, LLC.

Filed Date: 3/27/24.

Accession Number: 20240327-5292.

Comment Date: 5 p.m. ET 4/17/24.

Docket Numbers: ER24-784-001.

Applicants: Alabama Power Company, Georgia Power Company, Mississippi Power Company.

Description: Tariff Amendment: Alabama Power Company submits tariff filing per 35.17(b): Kilgeng (Kilgeng BESS Project) LGIA Deficiency Response to be effective 12/15/2023.

Filed Date: 3/27/24.

Accession Number: 20240327-5160.

Comment Date: 5 p.m. ET 4/17/24.

Docket Numbers: ER24-1549-001.

Applicants: American Electric Power Service Corporation, PJM Interconnection, L.L.C.

Description: Tariff Amendment: American Electric Power Service Corporation submits tariff filing per 35.17(b): Amendment to Facilities Agreement re: ILDSA, SA No. 5120 to be effective 5/20/2024.

Filed Date: 3/27/24.

Accession Number: 20240327-5137.

Comment Date: 5 p.m. ET 4/17/24.

Docket Numbers: ER24-1625-000.

Applicants: NSTAR Electric Company.

Description: Tariff Amendment: Cancellation of NSTAR-NEMC Transfer Agreement (ENE Use Rights) to be effective 3/27/2024.

Filed Date: 3/27/24.

Accession Number: 20240327-5072.

Comment Date: 5 p.m. ET 4/17/24.

Docket Numbers: ER24-1626-000.

Applicants: PJM Interconnection, L.L.C.

Description: 205(d) Rate Filing: Revisions to Schedule 12—Appendix A, Feb. 2024 RTEP, 30-Day Comment Period to be effective 6/26/2024.

Filed Date: 3/27/24.

Accession Number: 20240327-5098.

Comment Date: 5 p.m. ET 4/26/24.

Docket Numbers: ER24-1627-000.

Applicants: Southern California Edison Company.

Description: 205(d) Rate Filing: SCE Revision to Formula Rate Tariff Authorized 2024 PBOPs Expense Amount to be effective 1/1/2024.

Filed Date: 3/27/24.

Accession Number: 20240327-5132.

Comment Date: 5 p.m. ET 4/17/24.

Docket Numbers: ER24-1628-000.

Applicants: California Independent System Operator Corporation.

Description: 205(d) Rate Filing: 2024-03-27 WEIM Implementation Agreement—BHE Montana to be effective 5/27/2024.

Filed Date: 3/27/24.

Accession Number: 20240327-5181.

Comment Date: 5 p.m. ET 4/17/24.

Docket Numbers: ER24-1629-000.

Applicants: Andro Hydro, LLC.

Description: Andro Hydro, LLC submits the Undivided Ownership, Operation and Maintenance Agreement, to be effective February 12, 2024.

Filed Date: 3/13/24.

Accession Number: 20240313-5240.

Comment Date: 5 p.m. ET 4/3/24.

Docket Numbers: ER24-1630-000.

Applicants: Otter Tail Power Company.

Description: 205(d) Rate Filing: Notice of Cancellation of Remedial Action Scheme Service to be effective 5/31/2024.

Filed Date: 3/27/24.

Accession Number: 20240327-5201.

Comment Date: 5 p.m. ET 4/17/24.

Take notice that the Commission received the following electric securities filings:

Docket Numbers: ES24-26-000.

Applicants: Consumers Energy Company.

Description: Application Under Section 204 of the Federal Power Act for Authorization to Issue Securities of Consumers Energy Company.

Filed Date: 3/26/24.

Accession Number: 20240326-5277.

Comment Date: 5 p.m. ET 4/16/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: March 27, 2024.
Debbie-Anne A. Reese,
Acting Secretary.

[FR Doc. 2024-06951 Filed 4-1-24; 8:45 am]

BILLING CODE 6717-01-P